DEPARTMENT OF THE INTERIOR

Bureau of Land Management

[AZ-330-09-L12320000-AL0000-LVRCAZ070000]

Notice of Final Supplementary Rules on Public Lands Managed by the Lake Havasu Field Office, Arizona and California

AGENCY: Bureau of Land Management, Interior.

ACTION: Final supplementary rules.

SUMMARY: The Bureau of Land Management (BLM) Lake Havasu Field Office is issuing revised supplementary rules to implement decisions of the Lake Havasu Field Office Resource Management Plan (2007), to protect valuable and fragile natural and cultural resources, and to provide for public safety and enjoyment.

DATES: These supplementary rules are effective October 26, 2009.

ADDRESSES: Bureau of Land Management, Lake Havasu Field Office, 2610 Sweetwater Avenue, Lake Havasu City, Arizona 86406 or e-mail to Lake_Havasu@blm.gov.

FOR FURTHER INFORMATION CONTACT: Mike Henderson, Assistant Field Manager, or Michael Dodson, Field Staff Law Enforcement Ranger, Bureau of Land Management, Lake Havasu Field Office, 2610 Sweetwater Avenue, Lake Havasu City, Arizona 86406; telephone 928-505-1200, e-mail Mike_Henderson@blm.gov or Michael_Dodson@blm.gov.

SUPPLEMENTARY INFORMATION:

I. Background

II. Discussion of Supplementary Rules

III. Procedural Matters

I. Background

The following supplementary rules cover 1.3 million acres of the public land in the States of Arizona and California within the jurisdiction of the BLM Lake Havasu Field Office. These lands were included in the Lake Havasu Field Office Resource Management Plan (2007), and are adjacent to the Colorado River in the counties of Mohave, Maricopa, and La Paz (Arizona), and San Bernardino (California). The supplementary rules are created to implement the Lake Havasu Field Office Resource Management Plan on public lands within the planning area and to provide for continued management of these specific areas: Lake Havasu Shoreline, Parker Strip Recreation Management Area, Craggy Wash, and Swansea Townsite.

The primary purpose of the Lake Havasu Shoreline Program is to provide areas for boating, camping, and day-use. The recreation sites, designated as camps or day-use sites, are in areas traditionally used by boat-in camp visitors. This program was established to accommodate the increasing demand for shoreline recreational sites and to improve management of the natural resources. The designation of fee sites assures that specific locations are available for such use year after year.

The Parker Strip Recreation Management Area also experiences high visitor use. It contains campgrounds, day-use areas, off-highway vehicle use areas, boat ramps, picnic areas, concession operated resorts, and the Parker Dam Road National Backcountry Byway.

The Craggy Wash area is located directly adjacent to the north side of the Lake Havasu City Municipal Airport and east of State Route 95. It is heavily used for dispersed camping during the cooler months of the year (October to April). The area is also utilized by target shooters, off-highway vehicles, sightseers, bicyclists, and hikers. Frequently, as many as 300 visitors may be in the area at one time.

These supplementary rules replace existing rules for the Lake Havasu Shoreline, Aubrey Hills area, Craggy Wash area, Standard Wash area, Desert Bighorn Sheep Lambing Grounds (in Lake Havasu City, AZ), the Parker Strip Recreation Area (adjacent to the Colorado River in Arizona and California), and the Swansea Townsite (in La Paz County, Arizona). Existing supplementary rules were published in the Federal Register on September 15, 2003 (68 FR 54004-54007). These supplementary rules also replace previous supplementary rules published on May 21, 1998 (63 FR 27995), May 18, 1998 (63 FR 27316), and October 12, 1995 (60 FR 53194).

On March 4, 2008, the BLM published a notice of proposed supplementary rules and sought public comment, 73 FR 11662-11666. The public comment period closed May 5, 2008. BLM received 15 comments. All comments referred to Proposed Supplementary Rule 29, regarding off-highway vehicle use on the Parker Strip Recreation Management Area. One comment also addressed Proposed Supplementary Rules 21, 26, 27, and 28.

The following information responds to the public comments:

Rule 21. You must not possess glass beverage containers on land or in the water. You may possess glass beverage containers only within the confines of a vessel. The comment stated that the rule would exclude visitors from having glass beverage containers inside mobile homes and recreational vehicles at concession resorts, and that it should be rewritten to exclude concessions and apply only to the shoreline of Lake Havasu.

BLM Response: The rule pertains to the possession of glass beverage containers throughout the Lake Havasu Shoreline Area and Parker Strip Recreation Management Area on beaches, shoreline areas, and those areas that provide immediate access to such sites. Such sites are along the shoreline of the Colorado River through both Lake Havasu and the Parker Strip, including concession shorelines in both areas. This rule is intended to keep glass from entering these areas and becoming a hazard. This rule was carried forward unchanged from the existing rule established in 2003, and is consistent with similar rules at other Federal, State and local areas with similar uses. However, upon reviewing this comment, we have decided it is reasonable to allow glass beverage containers within the confines of mobile homes, recreational vehicles, mobile vacation homes, and enclosed buildings at concession resorts. This final rule has been revised accordingly.

Rule 26. You must not park or operate vehicles in violation of posted restrictions. The comment asked for a clarification of what is meant by “posted restrictions” because, without clarification, the intent of the rule is difficult to understand.

BLM Response: The intent of this rule is to provide reasonable notice that the BLM will facilitate the regulation of traffic and parking within the Parker Strip Recreation Management Area by posting appropriate-sized signs or notices of restrictions and prohibitions. It is difficult to state in these supplementary rules all of the possible restrictions that may apply in specific locations, and exactly how those restrictions will be posted. The BLM believes that the proposed supplementary rule is sufficiently clear, and the final rule has not been changed.

Rule 27. Disorderly conduct is prohibited. The comment stated that the rule was too broad and does not define the particular conduct which is being prohibited, and that it should pertain to all BLM lands.

BLM Response: Disorderly conduct is defined in regulations of the BLM at Title 43 Code of Federal Regulations (CFR) 423.2 and 8365.1-4. These regulations are applicable on all public lands. Similarly, disorderly conduct is defined at Arizona Revised Statute 13-2904 and California Penal Code Section 415, and those provisions are applicable in those respective states. The BLM believes that the clarity of these definitions is sufficient, but at the same time believes it is helpful to include this provision in the supplementary rules for the Parker Strip Recreation Management Area because Federal Register notices may be used for posting. In addition, including this provision here helps communicate, as a visitor service, the laws and rules that apply to a specific area. The final rule remains unchanged from the proposed rule.

Rule 28. On BLM-managed campgrounds, no more than 8 (eight) persons may occupy one campsite. The commenter understands that the rule does not apply to concessions, but prefers that the rule specifically exclude concession operations because concessionaires manage the group size and occupancy of spaces within concessions.

BLM Response: This rule already clearly states that it applies “on BLM-managed campgrounds,” and it is unnecessary to include an additional exclusion that it does not apply to concession-managed resorts. BLM-managed campgrounds are directly managed by BLM Volunteer Campground Hosts. BLM-managed campgrounds are clearly marked as such by signing and the presence of a Volunteer Campground Host. Concession Resort Representatives manage resorts under permitted policies in accordance with BLM policy, rules, and Federal, State, and local laws. The Concession Resorts are also prominently signed as such. The final rule is therefore the same as the proposed rule.

Rule 29. The operation of off-highway vehicles within any BLM-managed campground, concession resort, or facility is prohibited. This includes, but is not limited to, off-road only motorcycles, 3- to 8-wheel all-terrain vehicles, and those motor vehicles of which the primary manufactured purpose is for off-highway, rough terrain, or non-highway utility usage. This prohibited use applies to all off-highway vehicles on the California side of the Parker Strip Recreation Management Area that are not specifically registered, insured, or legal in the State of California for highway operation. This prohibition is in effect regardless of registration or highway operations laws of another state or foreign jurisdiction. This prohibited use also applies to all off-highway vehicles on the Arizona side of the Parker Strip Recreation Management Area that are not specifically registered, insured, or legal for highway operation in the State of Arizona. This prohibition is in effect regardless of registration or highway operations laws of another state or foreign jurisdiction. Golf carts may be operated only within BLM-managed campgrounds, concession resorts, and facilities. Operation of an off-highway vehicle or golf cart upon any public highway or road, or the shoulders thereof, is prohibited. The operation of a golf cart by a person under 16 years of age is prohibited, unless under the immediate and direct supervision of a person over 21 years of age. Several commenters stated that their personal off-highway vehicles are street legal in Arizona, and questioned why the proposed supplementary rule would apply in California.

BLM Response: The State of California does not allow the operation of off-highway vehicles on streets or highways, except under very limited circumstances. The State of California does not register off-highway vehicles as street legal, so registrations from other states are not recognized in California, pursuant to Section 38006 of the California Vehicle Code. As explained for Rule 27, including this provision in the supplementary rules helps emphasize the message as a visitor service. Similar rules have been posted at all of the Parker Strip Recreation Management Area's campgrounds and concession resorts since 1998. The proposed supplementary rule further clarifies what is an off-highway vehicle and what use of such vehicles constitutes a violation. The definition of what constitutes an “off highway vehicle” can be found in this rule. It may also be found in Section 38001 of the California Vehicle Code.

On the California side of the Parker Strip Recreation Management Area, the total prohibition of off-highway vehicle use within the concession resorts and BLM-managed campgrounds or facilities mirrors those laws found within the California Vehicle Code, including but not limited to: Sections 530, 590, 360, 4000 and 38000 to 38506. The State of California does not allow the operation of off-highway vehicles on streets or highways, except under very limited circumstances. The State of California only allows the operation of a golf cart on roads, highways or other areas in which the posted or safe speed limit is less than 25 miles per hour, pursuant to Section 21716 California Vehicle Code. The definition of a golf cart can be found at Section 345 of the California Vehicle Code. Parker Dam Road is posted at 55 miles per hour and golf cart operation on the highway or upon the shoulder of the highway is prohibited. Golf carts may be operated within BLM managed campgrounds, concession resorts or other facilities pursuant to 21115 and 4019 of the California Vehicle Code. The part of the rule referencing the age of a person operating a golf cart is consistent with 43 CFR 8341.1(E) and 12814.6 California Vehicle Code.

On the Arizona side of the Parker Strip Recreation Management Area, operation of off-highway vehicles is allowed within concession resorts and BLM-managed campgrounds or facilities if the off-highway vehicles meet the specific requirements of Arizona law. This rule mirrors those laws found at, but not limited to, Arizona Revised Statutes Chapters 17 and 28. The State of Arizona allows the operations of “street legal” off-highway vehicles on public streets and highways under certain conditions and terms. The definitions of an all terrain vehicle and an off highway vehicle may be found at Arizona Revised Statutes 28-101.3 and 101.34. Golf carts can also be registered as being “street legal” in the State of Arizona. The definition of a golf cart may be found at Arizona Revised Statutes 28-101(23). Those off highway vehicles and golf carts that are registered in the State of Arizona as “street legal” may be operated on roads, highways and streets. The part of the rule referencing the age of a person operating a golf cart is consistent with 43 CFR 8341.1(E) and Arizona Revised Statutes 28-3153.

One comment stated this rule remains too broad because it could be applied to vehicles not intended for off-road use, such as travel trailers, motor homes, or similar vehicles that are parked or stored off the road on leased lands.

BLM Response: This rule is adequately worded to clearly apply to the active operation of vehicles, specifically designed for off-highway use, that are not appropriate for highway operation.

Two comments questioned why golf carts are allowed but off-highway vehicles are not.

BLM Response: As with off-highway vehicles, the rule was written to reflect how California and Arizona State law allows the use of golf carts.

Two comments stated the off-highway prohibition was taking away their “privilege” of using off-highway vehicles on driveways, through park entrances, and road shoulders to travel from a resort to a riding area along the roadside, and that there was no other way to transport the off-highway vehicle to the riding area.

BLM Response: BLM cannot condone violation of State law and regulations through granting a privilege. Off-highway vehicles can be transported to the riding area by using a legal method initially employed to bring the off-highway vehicle into the resort.

Another comment was that the roads within BLM concession resorts are private roads; therefore State laws regarding use of vehicles on public roads do not apply.

BLM Response: All BLM concession resorts are located on leased public lands. Each of these resorts require a Concessions Permit and these resorts, including the lands and streets within, are under the direct criminal, civil and administrative jurisdiction of the BLM. Concession Resorts are not “private lands or streets.” State Law is also effective to the extent that it does not conflict with Federal Law, rules or regulations. The legal citations for the Bureau of Land Management's jurisdiction are FLMPA—43 U.S.C. 1700l; BOR OHV Rules—43 CFR 420 and 423; BLM Concessions/Permits—43 CFR 2920; BLM OHV Rules—43 CFR 8340 and 8341. Those lands that have rights-of-ways, leases and permits are still within the jurisdiction of the Bureau of Land Management. The intent of this rule is to emphasize that if State Law defines the operation of a particular vehicle in a certain area, these laws and rules also apply to those lands under the jurisdiction of the Bureau of Land Management. Although on-site representatives of concessions management enforce park management rules and procedures, they have no legal authority to manage traffic or criminal behavior, nor enforce any laws or rules, within the concession resorts. Although they may advise the public of applicable laws and rules, they must contact BLM Law Enforcement Rangers, the local County Sheriff, or the State Highway Patrol, to legally enforce such laws and rules.

II. Discussion of Supplementary Rules

The BLM has issued these supplementary rules to manage continued multiple use of public lands. Under the authority of 43 United States Code (U.S.C.) 1733(a), 16 U.S.C. 6802(f) and (g) (2), and 43 CFR 8365.1-6, the BLM establishes the following supplementary rules for public lands administered under the Lake Havasu Field Office Resource Management Plan.

These supplementary rules replace previous rules published in the Federal Register on September 15, 2003 (68 FR 54004) and May 21, 1998 (63 FR 27995). The supplementary rules for the Lake Havasu Shoreline Area apply to the BLM-managed lands within 1,000 linear feet of the high water mark (450-foot elevation line) of Lake Havasu, located in Mohave and La Paz Counties in Arizona, and in San Bernardino County, California. These rules also apply to portions of Lake Havasu located within 500 linear feet of designated campsites, day-use sites, fishing docks, boat docks, and swimming beaches. Included in this area are the following currently designated camps (listed by their location along the lake's Arizona shoreline from north to south): Bluebird; Wren Cove (2 sites); Mallard Cove (6 sites); Teal Point (2 sites); Widgeon Key; Road Runner (2 sites); Solitude Cove; Balance Rock Cove; Friendly Island (4 sites); Goose Bay (2 sites); Pilot Rock (3 sites); Steamboat Cove (4 sites); Buzzard Cove; Eagle Cove; Eagle Point; Ewe Camp; Rachel's Camp; Linda's Camp; Sand Isle (3 sites); Standard Wash (3 sites); Echo Cove (3 sites); Coyote Cove (2 sites); BLM Camp (2 sites); Whyte's Retreat (2 sites); Rocky Landing (3 sites); Satellite Cove (3 sites); Hum Hum Cove (2 sites); Cove of the Little Foxes; Disneyland (3 sites); Gnat Keys (2 sites); Hi Isle (10 sites); Big Horn (2 sites); Bass Bay (2 sites); Larned Landing (3 sites); Bill Williams (5 sites).

The supplementary rules for the Parker Strip Recreation Management Area replace those published on September 15, 2003 (68 FR 54004), and October 12, 1995 (60 FR 53194), and the supplementary rules for the Empire Landing and Crossroads Campgrounds, which are situated within the Parker Strip Recreation Management Area, published May 18, 1998 (63 FR 27316). These supplementary rules apply to the Parker Strip Recreation Management Area, which is defined as:

Gila and Salt River Meridian, Arizona

T. 11 N., R. 18 W., Sec. 15, 16, 22, 28, and 34.

T. 10 N., R. 18 W., Sec. 5 (W1/2, NW1/4, SW1/4), Sec. 6, Sec. 7, Lots 1-4, (NE1/4, N1/2, SE1/4, SW1/4, SE1/4) Sec. 18 (Lot 1, NW1/4, NE1/4).

T. 10 N., R. 19 W., Sec. 12, Sec. 13 (N1/2, N1/2, N1/2, SW1/4, NE1/4, NW1/4, SE1/4, NE1/4, N1/2, SE1/4, NW1/4, SW1/4, NW1/4, W1/2, SW1/4), Sec. 14, 22 and 23, Section 24 (W1/2, NW1/4).

San Bernardino Meridian, California

T. 2 N., R. 27 E., all.

T. 2 N., R. 26 E., Sec. 1, 11-15, 21-27 and 34-36.

T. 1 N., R. 26 E., Sec. 2, 3, 10, and 11.

The supplementary rules for the Craggy Wash area replace supplementary rules for Craggy Wash published September 15, 2003 (68 FR 54004). The supplementary rules for dispersed camping in the Craggy Wash area are necessary to manage the high volume of visitation to the area during the fall, winter, and spring seasons. The Craggy Wash area is defined as public lands located with the following legal description:

Gila and Salt River Meridian, Arizona

T. 14 N., R. 20 W., Sec. 4 (N½), Sec. 3 (N½), Sec. 2 (N½).

T. 15 N., R. 20 W., Sec. 33, 34, 35, 36.

The supplementary rules for Swansea Townsite replace previously published rules. The Swansea Townsite area is defined as public lands located with the following legal description:

Gila and Salt River Meridian, Arizona

T. 10 N., R. 15 W., Sec. 28, W½ SW¼; Sec. 29, S½; Sec. 32, N½; Sec. 33, W½ NW¼.

III. Procedural Matters

Executive Order 12866, Regulatory Planning and Review

These supplementary rules are not significant and are not subject to review by the Office of Management and Budget under EO 12866.

(1) These supplementary rules will not have an effect of $100 million or more on the economy. They will not adversely affect in a material way the economy, productivity, competition, jobs, the environment, public health or safety, or State, local, or tribal governments or communities.

(2) These supplementary rules will not create a serious inconsistency or otherwise interfere with an action taken or planned by another agency.

(3) These supplementary rules do not alter the budgetary effects or entitlements, grants, user fees, or loan programs or the rights or obligations of their recipients.

(4) These supplementary rules do not raise novel legal or policy issues.

The supplementary rules will not affect legal commercial activity, but merely contain rules of conduct for public use of a limited selection of public lands.

Clarity

Executive Order 12866 requires each agency to write regulations that are simple and easy to understand. The BLM invites your comments on how to make these supplementary rules easier to understand, including answers to questions such as the following:

(1) Are the requirements in the supplementary rules clearly stated?

(2) Do the supplementary rules contain technical language or jargon that interferes with their clarity?

(3) Does the format of the supplementary rules (grouping and order of sections, use of headings, paragraphing, etc.) aid or reduce their clarity?

(4) Would the supplementary rules be easier to understand if they were divided into more (but shorter) sections?

(5) Is the description of the supplementary rules in the SUPPLEMENTARY INFORMATION section of this preamble helpful in understanding them? How could this description be more helpful in making the supplementary rules easier to understand?

Please send any comments you may have on the clarity of the supplementary rules to one of the addresses specified in the ADDRESSES section.

Regulatory Flexibility Act

The Department of the Interior certifies that these supplementary rules will not have a significant economic effect on a substantial number of small entities under the Regulatory Flexibility Act (5 U.S.C. 601 et seq.). The supplementary rules will not affect legal commercial activity, but will govern conduct for public use of a limited selection of public lands.

Small Business Regulatory Enforcement Fairness Act

These supplementary rules do not constitute a major rule under 5 U.S.C. 804(2), the Small Business Regulatory Enforcement Fairness Act. These supplementary rules:

(1) Do not have an annual effect on the economy of $100 million or more. (See the discussion under Regulatory Planning and Review, above.)

(2) Will not cause a major increase in costs or prices for consumers, individual industries, Federal, State, or local government agencies, or geographic regions. (See the discussion under Regulatory Flexibility Act, above.)

(3) Do not have significant adverse effects on competition, employment, investment, productivity, innovation, or the ability of U.S.-based enterprises to compete with foreign-based enterprises.

Unfunded Mandates Reform Act

These supplementary rules do not impose an unfunded mandate on State, local, or tribal governments or the private sector of more than $100 million per year. The supplementary rules do not have a significant or unique effect on State, local, or tribal governments, or the private sector. The supplementary rules have no effect on governmental or tribal entities. A statement containing the information required by the Unfunded Mandates Reform Act (2 U.S.C. 1531 et seq.) is not required.

Executive Order 12630, Governmental Actions and Interference With Constitutionally Protected Property Rights (Takings)

In accordance with EO 12630, the supplementary rules do not have significant takings implications. The enforcement provision in the supplementary rules does not include any language requiring or authorizing forfeiture of personal property or any property rights. The EO 12630 addresses concerns based on the Fifth Amendment dealing with private property taken for public use without compensation. The land covered by the supplementary rules is public land managed by the BLM; therefore, no private property is affected. A takings implications assessment is not required.

Executive Order 13132, Federalism

These supplementary rules will not have a substantial direct effect on the states, on the relationship between the National Government and the states, or on the distribution of power and responsibilities among the various levels of government. Therefore, in accordance with Executive Order 13132, the BLM has determined that these supplementary rules do not have sufficient Federalism implications to warrant preparation of a Federalism Assessment.

Executive Order 12988, Civil Justice Reform

In accordance with EO 12988, the BLM has determined that these supplementary rules do not unduly burden the judicial system and meet the requirements of sections 3(a) and 3(b)(2) of the Order.

Executive Order 13175, Consultation and Coordination With Indian Tribal Governments

In accordance with EO 13175, we have found that these final rules would not include policies that have tribal implications. The supplementary rules would not affect lands held for the benefit of Tribes and Alaskan Natives.

Paperwork Reduction Act

These supplementary rules do not contain information collection requirements that the Office of Management and Budget must approve under the Paperwork Reduction Act (44 U.S.C. 3501 et seq.).

National Environmental Policy Act (NEPA)

The BLM prepared an environmental impact statement as part of the development of the Lake Havasu Field Office Resource Management Plan. During the National Environmental Policy Act process, many proposed decisions were fully analyzed, including the substance of these supplementary rules. The NEPA analysis for the decisions outlined in the Supplementary Rules was presented in the Draft RMP (BLM, 2005) and Final Environmental Impact Statement (2006). The decisions were approved in the Record of Decision (ROD) and Resource Management Plan, on May 10, 2007. The supplementary rules provide enforcement of plan decisions. The rationale for the decisions made in the plan is fully covered in the EIS. The EIS is available for review in the BLM administrative record at the address specified in the ADDRESSES section.

Executive Order 13211, Actions Concerning Regulations That Significantly Affect Energy Supply, Distribution, or Use

These supplementary rules do not comprise a significant energy action. The supplementary rules would not have an adverse effect on energy supplies, production, or consumption. They have no connection with energy policy.

Author

The principal author of these supplementary rules is Michael Dodson, Field Staff Law Enforcement Ranger, Bureau of Land Management Lake Havasu Field Office.

For the reasons stated in the Preamble, and under the authority for supplementary rules in 43 U.S.C. 1733(a) and 1740 and 43 CFR 8365.1-6, the Arizona State Director, Bureau of Land Management, establishes the following supplementary rules:

Supplementary Rules for All Public Lands Administered Under the Lake Havasu Field Office Resource Management Plan (2007)

1. Collection of dead and down wood is allowed only within 100 feet of a dispersed campsite and only for use in campfires as defined in 43 CFR 9212.0-5(e). The amount of firewood collected may not exceed the amount reasonably necessary to enjoy a traditional campfire (43 CFR 8365.1-5(b)(5)). Destruction, gathering or vandalism of live vegetation is prohibited. On-site collection or ignition of any other form of wood, such as building materials, artifacts, picnic tables, signs, or facilities from public lands is strictly prohibited. The use of commercially available firewood from off-site sources is recommended and strongly encouraged. Bonfires or other fire that exceeds a campfire as defined in 43 CFR 9212.0-5(e) are prohibited. Any person responsible for a campfire must possess on-site at least one means of rapidly extinguishing the fire, which may include, but is not limited to, a shovel, a fire blanket, at least five gallons of water, or a proper fire extinguisher. Leaving an active campfire unattended is prohibited (43 CFR 9212.1(d)).

2. All activities involving the use of paintballs are prohibited in any wilderness area, any wilderness study area, and any area of critical environmental concern, or within one-quarter mile of any established facilities, sites, campgrounds, residences, trailheads, staging areas, roads or other special designations. This also applies to any other area posted as prohibiting paintball activities, and is in effect even if commercially available and marketed biodegradable paintball materials are being used. The use of any type of paintball materials is prohibited in these areas. In authorized areas, paintball materials must be commercially manufactured and biodegradable.

3. In the Standard Wash Off-Highway Vehicle Use Area (Open Area pending), and the Shea Road/Osborn Wash Off-Highway Vehicle Use Area (Open Area pending), all motorized vehicle use and access shall be managed to restrict such use to existing roads and trails, until such time that appropriate environmental clearances are obtained. No person shall engage in motorized travel off existing routes (such as off- highway vehicle free-play or cross-country travel) until such time as these areas are authorized opened for that use. Upon full environmental clearance of both off-highway vehicle use areas and re-designation as open areas, this paragraph of the Supplementary Rule shall become null and void. However, each Open Area may obtain clearance and be opened for such use independently of each other and at different times.

4. Dispersed camping in undeveloped areas is authorized without permit for up to 14 days within any 28-day period. After the 14th day, campers must move beyond a 25-mile radius of their previous camp. This does not apply to concessions, public agency leases, and Long-Term Visitor Areas.

5. Overnight camping at the Lake Havasu Shoreline sites, Swansea Townsite and the Three Rivers Riparian District is limited to those recreation sites specifically designated for this use. Overnight camping within these three areas at a site that is not specifically designated or assigned for such use is prohibited.

Supplementary Rules for the Lake Havasu Shoreline Area

1. You must pay a fee in order to use a designated recreation site, including occupying a site for any use exceeding 20 minutes.

2. You must not moor any watercraft or floating platform at a recreation site or offshore in the vicinity or cove of any such site for more than 20 minutes without paying the required amenity fee. The fees will be in accordance with the fee schedule, requirements, and procedures that the BLM established under the Federal Lands Recreation Enhancement Act, and are payable in U.S. funds only.

3. You must present the appropriate fee receipt upon demand to any authorized BLM official inspecting the site. The fee receipt must be visibly displayed on the fee tube, in accordance with posted instructions, or in the manner directed by a BLM official.

4. You must not reassign or transfer your fee receipt to another individual or group or to another campsite.

5. Any authorized BLM official may revoke your use privileges, without reimbursement, if you violate any BLM rule or regulation. If the BLM revokes your use privileges, you must remove all personal property and leave the recreation site within one hour of notice.

6. A recreation site is considered occupied after you have paid the appropriate amenity fee, have taken possession of the site by placing personal property at the site, and have displayed the fee receipt on the fee tube in accordance with written instructions or as directed by a BLM official. You must not occupy a site in violation of instructions from a BLM official, or when there is reason to believe that the site is occupied by another person or persons.

7. Except for authorized Federal, State, or local personnel during the commission of their duties, a site cannot be occupied by other visitors without the consent of the party that paid the amenity use fee.

8. You must not occupy a site designated as “day-use” between sunset and sunrise.

9. A single vessel and its occupants may not occupy more than one site.

10. During the hours of 10 p.m. to 6 a.m., in accordance with applicable state time zone standards, you must maintain quiet within normal hearing range of the designated recreation sites.

11. You must not cut or collect any firewood, including dead and down wood or any other vegetative material, at any shoreline site.

12. You must not moor vessels to vegetation, signs, shade ramadas, tables, grills or fire rings, toilets, trash receptacles, or other objects or structures not designed for such use.

13. You must not beach or moor a vessel in excess of posted time limits.

14. You must not discharge or possess any fireworks.

15. You must keep the site free of litter and trash during the period of occupancy. You must remove all personal property, and the site must be clean upon your departure.

16. You must keep pets on a leash no longer than six (6) feet.

17. You must not leave pets unattended, and you must remove pet waste from the site or dispose of it in trash receptacles.

18. You must not violate any provisions of boating laws as described in Title 5, Chapter 3, of the Arizona Revised Statutes, or the California Harbors and Navigation Code (as applicable).

19. Possession of alcoholic beverages by a person under the age of 21 years is prohibited.

20. Consumption of alcoholic beverages by a person under the age of 21 years is prohibited.

21. You must not possess glass beverage containers on land or in the water. You may possess glass beverage containers only within the confines of a vessel, mobile home, recreational vehicle, mobile vacation home, or an enclosed building at a concession resort.

22. Reserving recreation sites in any manner, including personal property left unattended overnight on site, is prohibited.

23. Recreation sites used for camping activities must be occupied overnight by the party that paid for such use.

24. You must not leave personal property unattended for more than 24 hours. Personal property left unattended beyond such time limit is subject to disposition under the Federal Property and Administrative Services Act of 1949, as amended (40 U.S.C. 552).

25. It is prohibited to engage in any uses which are dependent upon, make contact with, or impact those public lands which make up the shoreline or bottom of Lake Havasu, without the proper written authorization or without having paid the appropriate amenity fees.

Supplementary Rules for the Parker Strip Recreation Management Area

The preceding Lake Havasu Shoreline Area Supplementary Rules 1, 2, 3, 4, 5, 6, 7, 8, 14, 15, 16, 17, 18, 20, 21, 23, and 25, also apply to the Parker Strip Recreation Management Area. In addition, the following rules apply to the Parker Strip Recreation Management Area:

26. You must not park or operate vehicles in violation of posted restrictions.

27. Disorderly conduct is prohibited.

28. On BLM-managed campgrounds, no more than eight persons may occupy one campsite.

29. The operation of off-highway vehicles within any concession or BLM-managed campground or facility is prohibited. This includes, but is not limited to, off-road only motorcycles, three to eight wheel all-terrain vehicles, and those motor vehicles for which the primary manufactured purpose is for off-highway, rough terrain, or non-highway utility usage. This prohibited use applies to all off-highway vehicles on the California side of the Parker Strip Recreation Management Area that are not specifically registered, insured, or legal in the State of California for highway operation. This prohibition is in effect regardless of registration or highway operations laws of another state or foreign jurisdiction. This prohibited use also applies to all off-highway vehicles on the Arizona side of the Parker Strip Recreation Management Area that are not specifically registered, insured, or legal for highway operation in the State of Arizona. This prohibition is in effect regardless of registration or highway operations laws of another state or foreign jurisdiction. Non-highway legal golf carts may be operated only within concession resorts and BLM-managed campgrounds and facilities. Operation of an off-highway vehicle or golf cart upon any public highway or road, or the shoulders thereof, is prohibited. The operation of a golf cart by a person under 16 years of age is prohibited unless under the immediate and direct supervision of a person over 21 years of age.

30. Camping within the Parker Strip Recreation Management Area is authorized at concession resorts, designated BLM campgrounds, or at least one-half mile from paved roads. Camping is prohibited in the parking or staging areas of the Copper Basin Dunes Off-Highway Vehicle Area and the Crossroads Off-Highway Vehicle Area. Dispersed camping between Parker Dam Road, the Whipple Mountains, and the adjacent Metropolitan Water District of Southern California lands is allowed only in connection with off-highway vehicle recreational activities. Camping activities may not interfere with active off-highway vehicle use in any manner.

Supplementary Rules for Craggy Wash

1. You must maintain your campsite free of trash and litter.

2. You must not operate a motor vehicle at a speed more than 15 miles per hour.

3. You must maintain quiet between the hours of 10 p.m. and 6 a.m. within hearing range of any other person or camp unit. You must not operate a generator during these hours.

4. You must not collect firewood in this area, including any dead and down wood, or any other vegetative material.

5. You must restrain a pet with a leash not longer than six (6) feet.

6. You must not leave a pet unattended.

7. You must not possess or discharge fireworks.

8. You must not leave personal property unattended for more than 24 hours.

9. In the Craggy Wash area, camping is prohibited within one mile of the Lake Havasu City limits. Camping at Craggy Wash is limited to 14 days.

Supplementary Rules for Swansea Townsite

1. Taking any vehicle through, around, or beyond a restrictive sign, recognizable barricade, fence, or traffic control barrier is prohibited. Operation of a vehicle in a wash, off a roadway, or on an unsigned historic roadway is prohibited.

2. Camping is permitted only at designated sites. Camping stay is limited to three days in any 30-day period.

3. No wood collection is permitted within the Swansea Townsite, including but not limited to dead and down wood, live plants, and lumber from historic structures.

4. No item may be collected or removed from the Swansea Townsite without the written permission of the Lake Havasu Field Office Manager. This includes but is not limited to old cans, nails, lumber, bricks, or glassware, whole or broken. The use of metal detectors without written permission is prohibited.

5. Climbing, leaning, sitting, or walking on the remains of the walled structures at the Swansea Townsite inherently damages the structures, and is unsafe, and is therefore prohibited. No person shall enter into any fenced area, shaft, tunnel, or structure.

6. Fires are allowed only at the designated sites and must be located in the fire ring provided. Construction of new fire rings is prohibited.

Penalties

The rules are in accordance with the provisions of Presidential Proclamation 7397, 66 FR 7354 (Jan. 22, 2001); 43 CFR 8341.2(a); and 43 CFR 8364.1. On all public lands, under section 303(a) of the Federal Land Policy and Management Act of 1976 (FLPMA), 43 U.S.C. 1733(a), 43 CFR 8360.0-7, any person who violates any of these rules may be tried before a United States Magistrate and fined no more than $1000.00 or imprisoned for not more than 12 months, or both. Such violations may also be subject to enhanced fines provided for by 18 U.S.C. 3571 (not to exceed $100,000.00 and/or imprisonment not to exceed 12 months).

Michael Taylor,
Acting State Director.

[FR Doc. E9-23247 Filed 9-24-09; 8:45 am]

BILLING CODE 4310-32-P